ENVIRONMENTAL PROTECTION AGENCY

40 CFR Part 52

[IN141-1b; FRL-7213-6]

Approval and Promulgation of State Implementation Plans; Indiana

AGENCY: Environmental Protection Agency (EPA).

ACTION: Proposed rule.

SUMMARY: The EPA is proposing to approve a State Implementation Plan (SIP) revision submitted by the Indiana Department of Environmental Management (IDEM) on July 18, 2000 with additional material submitted on January 11, 2002 and March 13, 2002. The revised SIP pertains to vapor tightness standards for the loading of gasoline cargo tanks at bulk gasoline terminals and pipeline breakout stations in Indiana. The purpose of this action is to approve amendments to Indiana's gasoline transport testing requirements which will tighten current state rules. In the Final Rules section of this Federal Register, EPA is approving as described herein, the State's SIP revision, as a direct final rule without prior proposal because the Agency views this as a noncontroversial revision and anticipates no adverse comments. A detailed rationale for the approval is set forth in the direct final rule. If we receive no adverse comments in response to that direct final rule we plan to take no further action in relation to this proposed rule. If EPA receives significant adverse comments, in writing, which have not been addressed, we will withdraw the direct final rule and address all public comments received in a subsequent final rule based on this proposed rule. The EPA will not institute a second comment period on this document.

DATES: EPA must receive written comments on this proposed rule by July 1, 2002.

ADDRESSES: You should mail written comments to: Patricia Morris, Acting Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: Francisco J. Acevedo, Environmental Protection Specialist, Regulation Development Section, Air Programs Branch (AR-18J), U.S. Environmental Protection Agency, Region 5, 77 West Jackson Boulevard, Chicago, Illinois 60604, (312) 886-3299.

SUPPLEMENTARY INFORMATION: Throughout this document wherever “we”, “us”, or “our” are used we mean EPA.

Table of Contents

I. What action is EPA taking today?

II. Where can I find more information about this proposal and the corresponding direct final rule?

I. What Action Is EPA Taking Today?

In this action, we are proposing to approve changes to Indiana's gasoline transport testing requirements contained in 326 IAC 8-4 and 326 IAC 20-10. Our approval makes the changes to the Indiana rules part of the federally enforceable SIP.

II. Where Can I Find More Information About This Proposal and the Corresponding Direct Final Rule?

For additional information see the direct final rule published in the rules section of this Federal Register.

Dated: May 9, 2002.
Bharat Mathur,
Acting Regional Administrator, Region 5.

[FR Doc. 02-13517 Filed 5-30-02; 8:45 am]

BILLING CODE 6560-50-P